DEPARTMENT OF THE INTERIOR

Office of the Secretary

[201D0102DM. DS62600000. DLSN00000.000000. DX62601]

Department-Wide Transition to Use of GrantSolutions Award Management System for Managing Financial Assistance Awards; Correction

AGENCY: Office of Grants Management, Interior.

ACTION: Notice; correction.

SUMMARY: The U.S. Department of the Interior (DOI) published a notice in the Federal Register on April 9, 2020 concerning the transitioning of all bureaus and offices to using the GrantSolutions award management system to manage financial assistance awards. The dates provided in the original notice published on April 9, 2020 were modified.

FOR FURTHER INFORMATION CONTACT: Cara Whitehead, Director, (202) 208-3466, Cara_Whitehead@ios.doi.gov.

SUPPLEMENTARY INFORMATION:

Correction

In the Federal Register of April 9, 2020, in FR Doc. 2020-07389, on page 19954, in the third column, change the “Group C transition date” from December 7, 2020 to November 30, 2020.

DATES: The revised Group C transition date is November 30, 2020. Group C includes the following bureaus, Departmental offices, and their recipients: Bureau of Indian Affairs/Bureau of Indian Education, Bureau of Land Management, Bureau of Reclamation, Departmental Offices, Office of Surface Mining Reclamation and Enforcement, and the U.S. Geological Survey, and their recipients.

DOI recipients are encouraged to visit the DOI GrantSolutions system transition website at https://www.doi.gov/grants/grantsolutions or contact their designated bureau or office financial assistance award contact for more information on the transition.

Cara Whitehead,
Director, Office of Grants Management.

[FR Doc. 2020-21562 Filed 9-29-20; 8:45 am]

BILLING CODE 4334-63-P